DEPARTMENT OF ENERGY

Federal Energy Regulatory Commission

Combined Notice of Filings No. 2

October 13, 2010.

Take notice that the Commission has received the following Natural Gas Pipeline Rate and Refund Report filings:

Docket Numbers: RP07-34-004; RP07-541-003.

Applicants: Southwest Gas Storage Company.

Description: Southwest Gas Storage Company submits its Semi-Annual Compliance Report.

Filed Date: 10/12/2010.

Accession Number: 20101012-5249.

Comment Date: 5 p.m. Eastern Time on Monday, October 25, 2010.

Docket Numbers: RP10-1018-002.

Applicants: Paiute Pipeline Company.

Description: Paiute Pipeline Company submits baseline tariff filing, to FERC Gas Tariff, to be effective 7/30/2010.

Filed Date: 10/12/2010.

Accession Number: 20101012-5006.

Comment Date: 5 p.m. Eastern Time on Monday, October 25, 2010.

Docket Numbers: RP10-1079-001.

Applicants: Trailblazer Pipeline Company LLC.

Description: Trailblazer Pipeline Company LLC submits tariff filing per 154.203: Original Volume No. 2—Baseline Filing—Docket No. RP10-1079-001 to be effective 10/12/2010.

Filed Date: 10/12/2010.

Accession Number: 20101012-5095.

Comment Date: 5 p.m. Eastern Time on Monday, October 25, 2010.

Docket Numbers: RP10-1211-001.

Applicants: Dominion Cove Point LNG, LP.

Description: Dominion Cove Point LNG, LP submits Tariff Record No. 40.7, Version 1.0.0, Compliance Filing, to be effective 11/1/2010.

Filed Date: 10/12/2010.

Accession Number: 20101012-5004.

Comment Date: 5 p.m. Eastern Time on Monday, October 25, 2010.

Docket Numbers: RP10-1212-001.

Applicants: Dominion Transmission, Inc.

Description: Dominion Transmission, Inc. submits Tariff Record No. 40.14.3, Version 1.0.0 & Tariff Record No. 40.38, Version 1.1.0 Compliance Filing.

Filed Date: 10/12/2010.

Accession Number: 20101012-5003.

Comment Date: 5 p.m. Eastern Time on Monday, October 25, 2010.

Docket Numbers: RP10-160-003.

Applicants: Kern River Gas Transmission Company

Description: Motion to Intervene and Protest of BP Energy Company.

Filed Date: 10/12/2010.

Accession Number: 20101012-5318.

Comment Date: 5 p.m. Eastern Time on Monday, October 25, 2010.

Docket Numbers: RP10-1316-001.

Applicants: Cotton Valley Compression, L.L.C.

Description: Cotton Valley Compression, L.L.C. submits its baseline eTariff Filing (Errata/Compliance), to be effective 9/21/2010.

Filed Date: 10/13/2010.

Accession Number: 20101013-5021.

Comment Date: 5 p.m. Eastern Time on Monday, October 25, 2010.

Any person desiring to protest this filing must file in accordance with Rule 211 of the Commission's Rules of Practice and Procedure (18 CFR 385.211).

Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-26855 Filed 10-22-10; 8:45 am]

BILLING CODE 6717-01-P